ENVIRONMENTAL PROTECTION AGENCY

[EPA-HQ-OLEM-2018-0534, FRL-11861-01-OMS]

Agency Information Collection Activities; Submission to the Office of Management and Budget; Comment Request; Identification, Listing, and Rulemaking Petitions (Renewal)

AGENCY: Environmental Protection Agency (EPA).

ACTION: Notice.

SUMMARY: The Environmental Protection Agency (EPA) has submitted an information collection request (ICR), Identification, Listing and Rulemaking Petitions (Renewal), EPA ICR Number 1189.32, OMB Control Number 2050-0053 to the Office of Management and Budget (OMB) for review and approval in accordance with the Paperwork Reduction Act. This is a proposed extension of the ICR, which is currently approved through March 31, 2024. Public comments were previously requested via the Federal Register on July 28, 2023 during a 60-day comment period. This notice allows for an additional 30 days for public comments.

DATES: Comments may be submitted on or before April 29, 2024.

ADDRESSES: Submit your comments, referencing Docket ID No. EPA-HQ-OLEM-2018-0534, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 202-566-0453; vyas.peggy@epa.gov.

SUPPLEMENTARY INFORMATION: This is a proposed extension of the ICR, which is currently approved through March 31, 2024. An agency may not conduct or sponsor and a person is not required to respond to a collection of information unless it displays a currently valid OMB control number.

Public comments were previously requested via the Federal Register on July 28, 2023 during a 60-day comment period (88 FR 48845). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the authority of the Resource Conservation and Recovery Act of 1976 (RCRA), as amended, Congress directed the Environmental Protection Agency (EPA) to implement a comprehensive program for the safe management of hazardous waste. In addition, Congress wrote that “[a]ny person may petition the Administrator for the promulgation, amendment or repeal of any regulation” under RCRA (section 7004(a)). 40 CFR parts 260 and 261 contain provisions that allow regulated entities to apply for petitions, variances, exclusions, and exemptions from various RCRA requirements.

The following are some examples of information required from petitioners under 40 CFR part 260. Under 40 CFR 260.20(b), all rulemaking petitioners must submit basic information with their demonstrations, including name, address, and statement of interest in the proposed action. When a petition is submitted, the Agency reviews materials, deliberates, publishes its tentative decision in the Federal Register, and requests public comment. The EPA also may hold informal public hearings (if requested by an interested person or at the discretion of the Administrator) to hear oral comments on its tentative decision. After evaluating all comments, the EPA publishes its final decision in the Federal Register.

With this renewal, this ICR will no longer include the burden associated with the disposal of coal combustion residuals (CCR) from electric utilities as solid waste under Subtitle D of RCRA, found at 40 CFR part 257, subpart D. That burden is covered by OMB Control Number 2050-0223.

Form Numbers: None.

Respondents/affected entities: Entities potentially affected by this action are the private sector, as well as State, Local, or Tribal Governments.

Respondent's obligation to respond: Required to obtain or retain a benefit (RCRA Sections 1008, 4004, 4005(a)).

Estimated number of respondents: 2,603.

Frequency of response: On occasion.

Total estimated burden: 62,778 hours. Burden is defined at 5 CFR 1320.03(b).

Total estimated cost: $11,679,180, which includes $8,860,784 in annualized capital and O&M costs.

Changes in the estimates: There is total decrease of 240,430 hours in the total estimated respondent burden compared with the ICR currently approved by OMB. There is a decrease of 175,319 hours as the hours associated with the information collection requirements for the disposal of CCR from this ICR were transferred to 2050-0223 in order to better align the collection requirements as they relate to RCRA and the disposal of CCR; specifically, as they relate to 40 CFR part 257. In addition, there was a decrease of $7,538,452 in capital/O&M costs to 2050-0223 as part of this realignment.

The remaining decrease of approximately 65,111 hours and $1,775,173 is an adjustment to the existing estimates based on data gathered through consultations with EPA Regional and State Offices and the regulated community, not due to program changes.

Courtney Kerwin,
Director, Regulatory Support Division.

[FR Doc. 2024-06555 Filed 3-27-24; 8:45 am]

BILLING CODE 6560-50-P